DEPARTMENT OF AGRICULTURE

Forest Service

Diamond Lake Restoration Project, Umpqua National Forest, Douglas County, OR

AGENCY: Forest Service, USDA.

ACTION: Revised notice of intent to prepare an environmental impact statement.

SUMMARY: On April 25, 2003, the USDA Forest Service, published a Notice of Intent in the Federal Register (68 FR 20367) to prepare an environmental impact statement (EIS) for the Diamond Lake Restoration Project. The original NOI identified the Forest Service as the sole preparer of the EIS. The Forest Service is revising the NOI to indicate that the Forest Service will serve as the Lead Agency (40 CFR 1501.5) and the Oregon Department of Fish and Wildlife and the Oregon Department of Environmental Quality will serve as Cooperating Agencies (40 CFR 1501.6) in the preparation of the EIS.

FOR FURTHER INFORMATION CONTACT: Sherri L. Chambers, Team Leader, North Umpqua Ranger District, 18782 North Umpqua Highway, Glide, Oregon 97443, or (541) 496-3532.

Dated: November 12, 2003.
James A. Caplan,
Forest Supervisor.

[FR Doc. 03-28864 Filed 11-18-03; 8:45 am]

BILLING CODE 3410-11-M